DEPARTMENT OF ENERGY

Federal Energy Regulatory Commission

[Docket Nos. RP00-545-001 and RP01-55-003]

WestGas InterState, Inc.; Notice of Compliance Filing

June 25, 2002.

Take notice that on June 20, 2002, WestGas Interstate, Inc. (WGI) tendered for filing as part of its FERC Gas Tariff, First Revised Volume No. 1, Second Revised Sheet No. 45A, Third Revised Sheet No. 47, First Revised Sheet No. 47B, Third Revised Sheet No. 69, Second Revised Sheet No. 69A, Original Sheet No. 69B, First Revised Sheet No. 87, First Revised Sheet No. 88, and Second Revised Sheet No. 89, to become effective September 1, 2002.

WGI states that the purpose of this filing is to comply with the Commission's Order on Compliance with Order Nos. 637, 587G, and 587L, issued in Docket Nos. RP00-545-000, RP01-55-001, and RP01-55-002 on May 21, 2002.

WGI further states that copies of this filing have been served on WGI's jurisdictional customers and interested state commissions.

Any person desiring to protest said filing should file a protest with the Federal Energy Regulatory Commission, 888 First Street, NE., Washington, DC 20426, in accordance with Section 385.211 of the Commission's Rules and Regulations. All such protests must be filed on or before July 2, 2002. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-16492 Filed 6-28-02; 8:45 am]

BILLING CODE 6717-01-P